DEPARTMENT OF THE INTERIOR

Fish and Wildlife Service

[FWS-R4-R-2013-N161; FXRS12650400000S3-123-FF04R02000]

Cat Island National Wildlife Refuge; West Feliciana Parish, Louisiana

AGENCY: Fish and Wildlife Service, Interior.

ACTION: Notice of intent; Comprehensive Conservation Plan and Environmental Assessment request for comments.

SUMMARY: We, the Fish and Wildlife Service (Service), intend to prepare a comprehensive conservation plan (CCP) and associated National Environmental Policy Act (NEPA) documents for Cat Island National Wildlife Refuge (NWR). We provide this notice in compliance with our CCP policy to advise other Federal and State agencies, Native-American Tribes, and the public of our intentions, and to obtain suggestions and information on the scope of issues to consider in the planning process.

DATES: To ensure consideration, we must receive your written comments by November 21, 2013.

ADDRESSES: You may send comments, questions, and requests for information to: Robert Strader, Project Leader, USFWS, Lower Mississippi River Refuge Complex, P.O. Box 217, Sibley, MS, 39165.

FOR FURTHER INFORMATION CONTACT: Michelle Paduani, Project Planner, 662-323-5548, michelle_paduani@fws.gov or Robert Strader, Project Leader, 601-442-6696, bob_strader@fws.gov.

SUPPLEMENTARY INFORMATION:

Introduction

With this notice, we initiate our process for developing a CCP for Cat Island NWR, West Feliciana Parish, Louisiana. This notice complies with our CCP policy to: (1) Advise other Federal and State agencies, Native-American tribes, and the public of our intention to conduct detailed planning on this refuge; and (2) obtain suggestions and information on the scope of issues to consider in the environmental document and during development of the CCP.

Background

The CCP Process

The National Wildlife Refuge System Administration Act of 1966 (16 U.S.C. 668dd-668ee) (Administration Act), as amended by the National Wildlife Refuge System Improvement Act of 1997, requires us to develop a CCP for each national wildlife refuge. The purpose for developing a CCP is to provide refuge managers with a 15-year plan for achieving refuge purposes and contributing toward the mission of the National Wildlife Refuge System, consistent with sound principles of fish and wildlife management, conservation, legal mandates, and our policies. In addition to outlining broad management direction on conserving wildlife and their habitats, CCPs identify wildlife-dependent recreational opportunities available to the public, including opportunities for hunting, fishing, wildlife observation, wildlife photography, and environmental education and interpretation. We will review and update the CCP at least every 15 years in accordance with the Administration Act.

Each unit of the National Wildlife Refuge System was established for specific purposes. We use these purposes as the foundation for developing and prioritizing the management goals and objectives for each refuge within the National Wildlife Refuge System mission, and to determine how the public can use each refuge. The planning process is a way for us and the public to evaluate management goals and objectives for the best possible conservation approach to this important wildlife habitat, while providing for wildlife-dependent recreation opportunities that are compatible with the refuge's establishing purposes and the mission of the National Wildlife Refuge System.

Our CCP process provides participation opportunities for Tribal, State, and local governments; agencies; organizations; and the public. We encourage input in the form of issues, concerns, ideas, and suggestions for the future management of Cat Island NWR.

We will conduct the environmental review of this project in accordance with the requirements of the National Environmental Policy Act of 1969, as amended (NEPA) (42 U.S.C. 4321 et seq.); NEPA regulations (40 CFR parts 1500-1508); other appropriate Federal laws and regulations; and our policies and procedures for compliance with those laws and regulations.

The Cat Island National Wildlife Refuge was established and shall be managed—(1) to conserve, restore, and manage habitats as necessary to contribute to the migratory bird population goals and habitat objective as established through the Lower Mississippi Valley Joint Venture; (2) to conserve, restore, and manage the significant aquatic resource values associated with the area's forested wetlands and to achieve the habitat objectives of the “Mississippi River Aquatic Resources Management Plan”; (3) to conserve, enhance, and restore the historic native bottomland community characteristics of the lower Mississippi alluvial valley and its associated fish, wildlife, and plant species; (4) to conserve, enhance, and restore habitat to maintain and assist in the recovery of endangered, and threatened plants and animals; and (5) to encourage the use of volunteers and facilitate partnerships among the United States Fish and Wildlife Service, local communities, conservation organizations, and other non-Federal entities to promote public awareness of the resources of the Refuge and the National Wildlife Refuge System and public participation in the conservation of those resources. 114 STAT. 1418. dated Oct. 27, 2000

Public Availability and Comments

Before including your address, phone number, email address, or other personal identifying information in your comment, you should be aware that your entire comment—including your personal identifying information—may be made publicly available at any time. While you can ask us in your comment to withhold your personal identifying information from public review, we cannot guarantee that we will be able to do so.

Authority

This notice is published under the authority of the National Wildlife Refuge System Improvement Act of 1997 (16 U.S.C. 668dd et seq.).

Dated: September 5, 2013.
Cynthia K. Dohner,
Regional Director.

[FR Doc. 2013-24590 Filed 10-21-13; 8:45 am]

BILLING CODE 4310-55-P